DEPARTMENT OF ENERGY

Federal Energy Regulatory Commission

Combined Notice of Filings #1

September 13, 2005.

Take notice that the Commission received the following electric rate filings:

Docket Numbers: ER02-485-006.

Applicants: Ameren Services Company.

Description: Compliance Refund Report of Ameren Services Company for and on behalf of Union Electric Company d/b/a AmerenUE, Central Illinois Public Service Company d/b/a AmerenCIPS and Illinois Power Company d/b/a AmerenIP.

Filed Date: 09/01/2005.

Accession Number: 20050901-5052.

Comment Date: 5 p.m. Eastern Time on Thursday, September 22, 2005.

Docket Numbers: ER05-1297-001.

Applicants: Cleco Power LLC.

Description: Cleco Power LLC submits an amendment to its 8/5/05 filing of pro forma revisions to Attachment K, Substitute Second Revised Sheet to FERC Electric Tariff, Second Revised Vol 1 in compliance with Order 2003-C.

Filed Date: 09/01/2005.

Accession Number: 20050908-0108.

Comment Date: 5 p.m. Eastern Time on Thursday, September 22, 2005.

Docket Numbers: ER05-1392-001.

Applicants: Duquesne Light Company.

Description: Duquesne Light Company amends the notice of cancellation to terminate the Open Access Transmission Tariff effective 1/1/05.

Filed Date: 09/01/2005.

Accession Number: 20050908-0109.

Comment Date: 5 p.m. Eastern Time on Thursday, September 22, 2005.

Docket Numbers: ER05-1422-000.

Applicants: Calpine Merchant Services Company, Inc.

Description: Calpine Merchant Services Co, Inc submits Notice of Succession that as a result of a name change, it adopts the CES Marketing VII, LLC, FERC Electric Tariff 1 as its own.

Filed Date: 09/01/2005.

Accession Number: 20050907-0048.

Comment Date: 5 p.m. Eastern Time on Thursday, September 22, 2005.

Docket Numbers: ER05-1423-000.

Applicants: Midwest Independent Transmission System Operator.

Description: Midwest Independent Transmission System Operator, Inc submits Attachment W-Form of Market Participating Agreement, Non-Firm Point-to-Point Transmission Service Agreement on behalf of Green Mountain Energy Company.

Filed Date: 09/01/2005.

Accession Number: 20050907-0049.

Comment Date: 5 p.m. Eastern Time on Thursday, September 22, 2005.

Docket Numbers: ER05-1424-000.

Applicants: New England Power Pool.

Description: New England Power Pool Participants Committee submits Second Restated NEPOOL Agreement executed by Kennebec River Energy, LLC et al.

Filed Date: 09/01/2005.

Accession Number: 20050907-0050.

Comment Date: 5 p.m. Eastern Time on Thursday, September 22, 2005.

Docket Numbers: ER05-1434-000.

Applicants: Vesta Capital Partners LP.

Description: Vesta Capital Partners, LP submits a Notice of Succession to notify that as a result of a name change, it adopts the Choice Energy Services, LP's Rate Schedule FERC 1 as its own.

Filed Date: 09/01/2005.

Accession Number: 20050907-0056.

Comment Date: 5 p.m. Eastern Time on Thursday, September 22, 2005.

Docket Numbers: ER05-1435-000.

Applicants: Midwest Independent Transmission System Operator, Inc.

Description: Midwest Independent Transmission System Operator, Inc, submits the Midwest ISO Agreement which has been executed by Ameren Services Co et al.

Filed Date: 09/01/2005.

Accession Number: 20050908-0112.

Comment Date: 5 p.m. Eastern Time on Thursday, September 22, 2005.

Docket Numbers: ER05-1436-000.

Applicants: Midwest Independent Transmission System Operator, Inc.

Description: Midwest Independent Transmission System Operator, Inc et al. submits a notice of cancellation of certain agreements related to GridAmerica LLC to be effective 11/1/05.

Filed Date: 09/01/2005.

Accession Number: 20050908-0111.

Comment Date: 5 p.m. Eastern Time on Thursday, September 22, 2005.

Docket Numbers: ER05-1437-000.

Applicants: New York Independent System Operator, Inc.

Description: New York Independent System Operator, Inc proposes changes to its Market Administration and Control Area Services Tariff, to eliminate the sunset dates for its Day-Ahead Demand Response Program and its Emergency Demand Response Program.

Filed Date: 09/01/2005.

Accession Number: 20050908-0113.

Comment Date: 5 p.m. Eastern Time on Thursday, September 22, 2005.

Docket Numbers: ER05-1438-000.

Applicants: Boston Edison Company.

Description: Boston Edison Co submits an executed Wholesale Distribution Service Agreement with Massachusetts Port Authority.

Filed Date: 09/01/2005.

Accession Number: 20050908-0114.

Comment Date: 5 p.m. Eastern Time on Thursday, September 22, 2005.

Docket Numbers: ER05-1449-000.

Applicants: North West Rural Electric Cooperative.

Description: North West Rural Electric Coop advises that due to amendments to section 201(f) of the Federal Power Act, it is no longer a public utility and that Rate Schedule 1 is no longer subject to jurisdiction of FERC.

Filed Date: 09/01/2005.

Accession Number: 20050909-0034.

Comment Date: 5 p.m. Eastern Time on Thursday, September 22, 2005.

Docket Numbers: ER99-2923-004.

Applicants: Phelps Dodge Energy Services, LLC.

Description: Phelps Dodge Energy Services, LLC submits a revised tariff sheet that corrects a typographical error in the Market Behavior rules.

Filed Date: 09/01/2005.

Accession Number: 20050908-0110.

Comment Date: 5 p.m. Eastern Time on Thursday, September 22, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-5091 Filed 9-15-05; 8:45 am]

BILLING CODE 6717-01-P